DEPARTMENT OF COMMERCE

Patent and Trademark Office

[Docket No. PTO-P-2022-0027]

Expanding Admission Criteria for Registration To Practice in Patent Cases Before the United States Patent and Trademark Office

AGENCY: United States Patent and Trademark Office, Department of Commerce.

ACTION: Request for comments; extension of written comment period.

SUMMARY: The United States Patent and Trademark Office (USPTO or Office) published a request for comments in the Federal Register on October 18, 2022, seeking comments from the public on the scientific and technical requirements to practice in patent matters before the USPTO. Through this notice, the Office is extending the period for written public comments until January 31, 2023.

DATES: Comment Deadline: Written comments must be received by January 31, 2023.

ADDRESSES: For reasons of Government efficiency, comments must be submitted through the Federal eRulemaking Portal at www.regulations.gov. To submit comments via the portal, enter docket number PTO-P-2022-0027 on the homepage and click “Search.” The site will provide a search results page listing all documents associated with this docket. Find a reference to this request for comments and click on the “Comment Now!” icon, complete the required fields, and enter or attach your comments. Attachments to electronic comments will be accepted in ADOBE® portable document format (PDF) or MICROSOFT WORD® format. Because comments will be made available for public inspection, information that the submitter does not desire to make public, such as an address or phone number, should not be included.

Visit the Federal eRulemaking Portal for additional instructions on providing comments via the portal. If electronic submission of comments is not feasible due to a lack of access to a computer and/or the internet, please contact the Office using the contact information below for special instructions on how to submit comments by other means.

Anonymous submissions: The Office will accept anonymous submissions. Enter “N/A” in the required fields if you wish to remain anonymous.

FOR FURTHER INFORMATION CONTACT: Will Covey, Deputy General Counsel and Director, Office of Enrollment and Discipline, at 571-272-4097 or oed@uspto.gov.

SUPPLEMENTARY INFORMATION: On October 18, 2022, the USPTO published a Federal Register Notice announcing that the Office seeks input on whether it should revise the scientific and technical criteria for admission to practice in patent matters. 87 FR 63044. The request for comments sought public input on whether to require the USPTO to periodically review certain applicant degrees on a predetermined timeframe, and whether to make certain modifications to the accreditation requirement for computer science degrees. The request for comments also sought input on whether the creation of a separate design patent practitioner bar would be beneficial to the public and the Office, whether to add clarifying instructions to the General Requirements Bulletin for Admission to the Examination for Registration to Practice in Patent Cases before the United States Patent and Trademark Office for limited recognition applicants, and whether the Office should make any additional updates to the scientific and technical requirements for admission to practice in patent matters. The notice requested that written public comments be submitted on or before January 17, 2023.

Through this notice, the USPTO is extending the period for written public comments until January 31, 2023, to give interested members of the public additional time to submit comments. Previously submitted written comments do not need to be resubmitted. Any comments received after the close of the previous deadline of January 17, 2023, and the publication date of this notice will be treated as timely and given full consideration.

All other information and instructions to commenters provided in the October 18, 2022 notice remain unchanged.

Katherine K. Vidal,
Under Secretary of Commerce for Intellectual Property and Director of the United States Patent and Trademark Office.

[FR Doc. 2023-00945 Filed 1-18-23; 8:45 am]

BILLING CODE 3510-16-P